DEPARTMENT OF COMMERCE

International Trade Administration

The Manufacturing Council: Meeting of the Manufacturing Council

AGENCY: International Trade Administration, U.S. Department of Commerce.

ACTION: Notice of an open meeting.

SUMMARY: The Manufacturing Council will hold a meeting to discuss a variety of issues affecting the U.S. manufacturing industry. The Council was re-chartered on April 10, 2008, to advise the Secretary of Commerce on matters relating to the U.S. manufacturing industry.

DATES: March 22, 2010.

Time: 1:30-3 p.m. (ET).

ADDRESSES: Department of Commerce, 1401 Constitution Avenue, NW., Room 4830, Washington, DC, 20230. Because of building security, all non-government attendees must pre-register. This program will be physically accessible to people with disabilities. Seating is limited and will be on a first come, first served basis. Requests for sign language interpretation, other auxiliary aids, or pre-registration, should be submitted no later than March 15, 2010, to J. Marc Chittum, the Manufacturing Council, Room 4043, 1401 Constitution Avenue, NW., Washington, DC, 20230, telephone 202-482-4501, Marc.Chittum@trade.gov.

FOR FURTHER INFORMATION CONTACT: J. Marc Chittum, the Manufacturing Council, Room 4043, 1401 Constitution Avenue, NW., Washington, DC, 20230, telephone: 202-482-4501, e-mail: Marc.Chittum@trade.gov.

Dated: March 1, 2010.
J. Marc Chittum
Executive Secretary, the Manufacturing Council.

[FR Doc. 2010-4797 Filed 3-4-10; 8:45 am]

BILLING CODE 3510-DR-P